DEPARTMENT OF TRANSPORTATION

Federal Aviation Administration

Notice of Cancellation of Environmental Impact Statement for the West Virginia International Yeager Airport, Charleston, West Virginia

AGENCY: Federal Aviation Administration (FAA), DOT.

ACTION: Notice of cancellation of preparation of environmental impact statement.

SUMMARY: The Federal Aviation Administration (FAA) announces that it has discontinued preparation of an Environmental Impact Statement (EIS) for the proposed Airfield, Safety, and Terminal Improvement Project at West Virginia International Yeager Airport (CRW) in Charleston, West Virginia. The FAA's discontinued preparation of the EIS is based on the need for additional planning studies to support the proposed development following changes to operations at CRW. The FAA originally placed the EIS on pause on March 27, 2024 and is now cancelling the EIS due to the additional time needed to conduct the necessary studies.

DATES: The effective date for cancellation of the EIS at West Virginia International Yeager Airport is September 18, 2024.

FOR FURTHER INFORMATION CONTACT: Mr. Andrew Brooks, Environmental Program Manager, Eastern Regional Office, AEA-610, Federal Aviation Administration, 1 Aviation Plaza, Jamaica, NY 11434. Telephone: 718-553-2511.

SUPPLEMENTARY INFORMATION: The FAA published a Notice of Intent (NOI) to prepare an EIS for CRW in the Federal Register on September 29, 2022 (Notice of Intent To Prepare an Environmental Impact Statement, Initiate Section 106 Consultation, and Request for Scoping Comments, 87 FR 59158-60, September 29, 2022). Two in-person public scoping meetings were held on November 2 and 3, 2022, at the Embassy Suites by Hilton Charleston Hotel in Charleston, West Virginia and a third public scoping meeting was held virtually on Zoom on November 7, 2022. A governmental agency scoping meeting was also held at the Embassy Suites by Hilton Charleston Hotel on November 3, 2022. In response to requests received during scoping, the FAA extended the end of the public comment period from November 17, 2022, to November 29, 2022, via a notice published in the Federal Register (Notice of Extension to Public Comment Period—Notice of Intent To Prepare an Environmental Impact Statement, Initiate Section 106 Consultation, and Request for Scoping Comments for the Proposed Airfield, Safety, and Terminal Improvement Project at West Virginia International Yeager Airport, Charleston, Kanawha County, West Virginia, 87 FR 68225-6, November 14, 2022).

In 2023, the Central West Virginia Regional Airport Authority (CWVRAA), the sponsor and operator of CRW, notified the FAA of forthcoming changes in air carrier service and associated operations. One carrier stopped service in March 2023 and a new carrier initiated service in May 2023. The change in carriers resulted in different aircraft operating at CRW. Additionally, the new carrier provided different destinations from CRW and the CWVRAA was actively working to attract additional new carriers and markets during 2023. These changes in operation resulted in the re-examination of the project planning through the end of 2023 and early 2024 and CWVRAA identified a need to revisit the planning for the airfield components of the proposed project. Concurrently, CWVRAA decided to focus on the Terminal Development components of the proposed project and submitted a revised Terminal Design Concept for FAA review and approval. Given the changes in operations at CRW, the need for additional planning studies, and the focus on a revised Terminal Development concept, the FAA determined that the revised Terminal Development would have independent utility from the runway project. The revised Terminal Development would address an immediate Airport need that was mutually exclusive from the runway project and occurring at a different time than the runway components. Accordingly, the FAA announced that the EIS would be paused on the Federal Permitting Dashboard (www.permits.performance.gov) on March 27, 2024.

The FAA conducted two public meetings on July 9, 2024 at the Embassy Suites by Hilton Charleston Hotel in Charleston, West Virginia to inform the public on the reason for the pause to the EIS, present the revised Terminal Design Concept, discuss CWVRAA's change in approach to focus on the terminal, and present the results of environmental studies conducted on the EIS prior to the pause. The FAA accepted comments from the public on both the EIS pause and the revised Terminal Design Concept. The FAA completed environmental review of the revised Terminal Design Concept and issued a Categorical Exclusion on August 13, 2024.

With the CWVRAA priority for the immediate future focused on the financing and construction of the airport terminal and marketing of new service, the necessary planning studies to support the originally proposed airfield development components of the EIS will take some time to complete. Accordingly, the FAA is terminating the EIS for the Airfield, Safety, and Terminal Improvement Project and withdrawing the NOI issued on September 29, 2022 as of the Effective Date of this Notice.

Issued in Beaver, West Virginia, September 18, 2024.
Matthew Digiulian,
Manager, Beckley Airport Field Office, Airports Division, Eastern Region.

[FR Doc. 2024-21735 Filed 9-23-24; 8:45 am]

BILLING CODE 4910-13-P